DEPARTMENT OF JUSTICE

Antitrust Division

Notice Pursuant to the National Cooperative Research and Production Act of 1993—Cooperative Research Group on Consortium for NASGRO Development and Support

Notice is hereby given that, on August 5, 2015, pursuant to Section 6(a) of the National Cooperative Research and Production Act of 1993, 15 U.S.C. § 4301 et seq. (“the Act”), Southwest Research Institute: Cooperative Research Group on Consortium for NASGRO Development and Support (“NASGRO”) has filed written notifications simultaneously with the Attorney General and the Federal Trade Commission disclosing changes in its membership. The notifications were filed for the purpose of extending the Act's provisions limiting the recovery of antitrust plaintiffs to actual damages under specified circumstances. Specifically, GKN Aerospace Sweden AB, Trollhättan, SWEDEN; IHI Corporation, Tokyo, JAPAN; Sierra Nevada Corporation, Centennial, CO; and Hamilton Sundstrand, A United Technologies Company, Windsor Locks, CT, have been added as parties to this venture.

Also, Volvo Aero Corporation, Trollhättan, SWEDEN; and Spirit Aerosystems, Wichita, KS, have withdrawn as parties to this venture. Furthermore, the period of performance has been extended to May 16, 2016.

No other changes have been made in either the membership or planned activity of the group research project. Membership in this group research project remains open, and NASGRO intends to file additional written notifications disclosing all changes in membership.

On October 3, 2001, NASGRO filed its original notification pursuant to Section 6(a) of the Act. The Department of Justice published a notice in the Federal Register pursuant to Section 6(b) of the Act on January 22, 2002 (67 FR 2910).

The last notification was filed with the Department on October 3, 2011. A notice was published in the Federal Register pursuant to Section 6(b) of the Act on October 26, 2011 (76 FR 66324).

Patricia A. Brink,
Director of Civil Enforcement, Antitrust Division.

[FR Doc. 2015-21043 Filed 8-24-15; 8:45 am]

BILLING CODE P